DEPARTMENT OF TRANSPORTATION

Surface Transportation Board

[STB Finance Docket No. 35308]

Piedmont & Atlantic Railroad Co., Inc., d/b/a/ Yadkin Valley Railroad Company—Acquisition and Operation Exemption—Norfolk Southern Railway Company

Piedmont & Atlantic Railroad Co., Inc., d/b/a Yadkin Valley Railroad Company (YVRR), a Class III rail carrier, has filed a verified notice of exemption under 49 CFR 1150.41 to acquire, by purchase pursuant to an agreement it anticipates entering into with Norfolk Southern Railway Company (NS) (successor to Southern Railway Company), and to operate approximately 93 miles of rail lines as follows: (1) From milepost K-37.0 at Rural Hall, in Forsyth County, NC, to milepost K-100.2 at North Wilkesboro, in Wilkes County, NC; and (2) from milepost CF-0.0 at Mount Airy, in Surry County, NC, to milepost CF-29.8 at Rural Hall, in Forsyth County, NC.¹ YVRR has subleased and operated these rail lines since March 1994.²

¹ Laurinburg & Southern Railroad Company previously was authorized to lease these lines and YVRR was authorized to operate them in Laurinburg and Southern Railroad Company, et al.—Lease and Operation Exemption—Southern Railway Company, Finance Docket No. 31526 (ICC served Nov. 7, 1989).

² See Piedmont & Atlantic Railroad Co., Inc.—Lease and Operation Exemption—L & S Holding Company d/b/a/Laurinburg & Southern Railroad Co. and Yadkin Valley Railroad Company, Finance Docket No. 32462 (ICC served Mar. 29, 1994). Also, in H. Peter and Linda C. Claussen—Continuance in Control Exemption—Piedmont & Atlantic Railroad Co., Inc., Finance Docket No. 32464, (ICC served Mar. 29, 1994), H. Peter and Linda C. Claussen were authorized to continue in control of Piedmont & Atlantic Railroad Co., Inc., once it became a Class III rail carrier.

YVRR certifies that its projected annual revenues as a result of this transaction will not result in the creation of a Class II or Class I rail carrier.

YVRR states that it intends to consummate the transaction on or after November 7, 2009, but shall in no event consummate the transaction before the Board either grants its petition for waiver of the 60-day labor notice requirement or YVRR satisfies the applicable labor notice requirement at 49 CFR 1150.42(e).³ YVRR requests expedited action on its petition.

³ On October 8, 2009, YVRR concurrently filed a certification of labor notice compliance and a petition for waiver of the 60-day advance labor notice requirement at 49 CFR 1150.42(e). That request will be addressed in a separate decision. Unless the Board grants the waiver request, the earliest this transaction may be consummated will be December 7, 2009.

If the verified notice contains false or misleading information, the exemption is void ab initio. Petitions to revoke the exemption under 49 U.S.C. 10502(d) may be filed at any time. The filing of a petition to revoke will not automatically stay the effectiveness of the exemption. Stay petitions must be filed no later than 7 days before the exemption becomes effective.

Pursuant to the Consolidated Appropriations Act, 2008, Public Law No. 110-161, § 193, 121 Stat. 1844 (2007), nothing in this decision authorizes the following activities at any solid waste rail transfer facility: collecting, storing, or transferring solid waste outside of its original shipping container; or separating or processing solid waste (including baling, crushing, compacting, and shredding). The term “solid waste” is defined in section 1004 of the Solid Waste Disposal Act, 42 U.S.C. 6903.

An original and 10 copies of all pleadings, referring to STB Finance Docket No. 35308, must be filed with the Surface Transportation Board, 395 E Street, SW., Washington, DC 20423-0001. In addition, a copy of each pleading must be served on Rose-Michele Nardi, Esq., Weiner Brodsky Sidman Kider PC, 1300 19th Street, NW., Fifth Floor, Washington, DC 20036-1609.

Board decisions and notices are available on our website at http://www.stb.dot.gov.

Decided: October 19, 2009.
By the Board, Rachel D. Campbell, Director, Office of Proceedings.
Kulunie L. Cannon,
Clearance Clerk.

[FR Doc. E9-25512 Filed 10-22-09; 8:45 am]

BILLING CODE 4915-01-P